DEPARTMENT OF ENERGY

Federal Energy Regulatory Commission

Combined Notice of Filings

Take notice that the Commission has received the following Natural Gas Pipeline Rate and Refund Report filings:

Filings Instituting Proceedings

Docket Numbers: RP25-757-000.

Applicants: National Fuel Gas Supply Corporation.

Description: 4(d) Rate Filing: Negotiated Rate—Citadel Energy Marketing Amendment VI to be effective 4/1/2025.

Filed Date: 3/28/25.

Accession Number: 20250328-5391.

Comment Date: 5 p.m. ET 4/9/25.

Docket Numbers: RP25-758-000.

Applicants: Panhandle Eastern Pipe Line Company, LP.

Description: Compliance filing: Flow Through of Penalty Revenues Report filed on 3-31-25 to be effective N/A.

Filed Date: 3/31/25.

Accession Number: 20250331-5016.

Comment Date: 5 p.m. ET 4/14/25.

Docket Numbers: RP25-759-000.

Applicants: Panhandle Eastern Pipe Line Company, LP.

Description: Compliance filing: Flow Through of Cash-Out Revenues filed on 3-31-25 to be effective N/A.

Filed Date: 3/31/25.

Accession Number: 20250331-5019.

Comment Date: 5 p.m. ET 4/14/25.

Docket Numbers: RP25-760-000.

Applicants: Enable Gas Transmission, LLC.

Description: Compliance filing: 2025 Annual IT Revenue Crediting Filing to be effective N/A.

Filed Date: 3/31/25.

Accession Number: 20250331-5020.

Comment Date: 5 p.m. ET 4/14/25

Docket Numbers: RP25-761-000.

Applicants: Enable Gas Transmission, LLC.

Description: 4(d) Rate Filing: Fuel Tracker Filing—Effective May 1, 2025 to be effective 5/1/2025.

Filed Date: 3/31/25.

Accession Number: 20250331-5021.

Comment Date: 5 p.m. ET 4/14/25.

Docket Numbers: RP25-762-000.

Applicants: Enable Mississippi River Transmission, LLC.

Description: Compliance filing: 2025 Annual SCT Revenue Crediting Filing to be effective N/A.

Filed Date: 3/31/25.

Accession Number: 20250331-5023.

Comment Date: 5 p.m. ET 4/14/25.

Docket Numbers: RP25-763-000.

Applicants: Florida Gas Transmission Company, LLC.

Description: 4(d) Rate Filing: New Non-Conforming NRAs with FP&L and CertainTeed to be effective 4/1/2025.

Filed Date: 3/31/25.

Accession Number: 20250331-5032.

Comment Date: 5 p.m. ET 4/14/25.

Docket Numbers: RP25-764-000.

Applicants: Florida Gas Transmission Company, LLC.

Description: 4(d) Rate Filing: Update Non-Conforming List—FP&L and CertainTeed to be effective 4/1/2025.

Filed Date: 3/31/25.

Accession Number: 20250331-5037.

Comment Date: 5 p.m. ET 4/14/25.

Docket Numbers: RP25-765-000.

Applicants: Eastern Gas Transmission and Storage, Inc.

Description: 4(d) Rate Filing: EGTS—25.03.31 Negotiated Agreements to be effective 4/1/2025.

Filed Date: 3/31/25.

Accession Number: 20250331-5106.

Comment Date: 5 p.m. ET 4/14/25.

Docket Numbers: RP25-766-000.

Applicants: Kern River Gas Transmission Company.

Description: 4(d) Rate Filing: 2025 March Negotiated TSA Filing to be effective 4/1/2025.

Filed Date: 3/31/25.

Accession Number: 20250331-5165.

Comment Date: 5 p.m. ET 4/14/25.

Docket Numbers: RP25-767-000.

Applicants: Northern Border Pipeline Company.

Description: 4(d) Rate Filing: Electric Compressor Surcharge 2025 to be effective 5/1/2025.

Filed Date: 3/31/25.

Accession Number: 20250331-5178.

Comment Date: 5 p.m. ET 4/14/25.

Docket Numbers: RP25-768-000.

Applicants: Southern Star Central Gas Pipeline, Inc.

Description: 4(d) Rate Filing: Vol. 2—Negotiated Rate Agreements—Scout Energy Group III and V, and Tenaska to be effective 4/1/2025.

Filed Date: 3/31/25.

Accession Number: 20250331-5193.

Comment Date: 5 p.m. ET 4/14/25.

Docket Numbers: RP25-769-000.

Applicants:>Hardy Storage Company, LLC.

Description: 4(d) Rate Filing: RAM 2025 to be effective 5/1/2025.

Filed Date: 3/31/25.

Accession Number: 20250331-5199.

Comment Date: 5 p.m. ET 4/14/25.

Docket Numbers: RP25-770-000.

Applicants: Enable Gas Transmission, LLC.

Description: 4(d) Rate Filing: NRA Filing—Tenaska & Delta North to be effective 4/1/2025.

Filed Date: 3/31/25.

Accession Number: 20250331-5202.

Comment Date: 5 p.m. ET 4/14/25.

Docket Numbers: RP25-771-000.

Applicants: East Tennessee Natural Gas, LLC.

Description: Compliance filing: 2023-2024 ETNG Cashout Report to be effective N/A.

Filed Date: 3/31/25.

Accession Number: 20250331-5203.

Comment Date: 5 p.m. ET 4/14/25.

Docket Numbers: RP25-772-000.

Applicants: East Tennessee Natural Gas, LLC.

Description: 4(d) Rate Filing: 2025 ETNG Fuel Filing to be effective 5/1/2025.

Filed Date: 3/31/25.

Accession Number: 20250331-5216.

Comment Date: 5 p.m. ET 4/14/25.

Docket Numbers: RP25-773-000.

Applicants: Alliance Pipeline L.P.

Description: 4(d) Rate Filing: Negotiated Rates—Relocations, Releases 2025-04-01 to be effective 4/1/2025.

Filed Date: 3/31/25.

Accession Number: 20250331-5239.

Comment Date: 5 p.m. ET 4/14/25.

Docket Numbers: RP25-774-000.

Applicants: Pine Needle LNG Company, LLC.

Description: 4(d) Rate Filing: 2025 Annual Fuel and Electric Power Tracker Filing to be effective 5/1/2025.

Filed Date: 3/31/25.

Accession Number: 20250331-5251.

Comment Date: 5 p.m. ET 4/14/25.

Docket Numbers: RP25-775-000.

Applicants: Columbia Gulf Transmission, LLC.

Description: 4(d) Rate Filing: ELXP—Neg Rate NC Filing—Venture Global 265290 to be effective 5/1/2025.

Filed Date: 3/31/25.

Accession Number: 20250331-5263.

Comment Date: 5 p.m. ET 4/14/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-1103-002.

Applicants: Columbia Gas Transmission, LLC.

Description: Compliance filing: Compliance to Place Revised Rates Into Effect to be effective 4/1/2025.

Filed Date: 3/31/25.

Accession Number: 20250331-5274.

Comment Date: 5 p.m. ET 4/14/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 31, 2025.
Carlos D. Clay,
Deputy Secretary.

[FR Doc. 2025-05820 Filed 4-3-25; 8:45 am]

BILLING CODE 6717-01-P